DEPARTMENT OF COMMERCE

International Trade Administration

[A-533-813]

Certain Preserved Mushrooms From India: Rescission of Antidumping Duty Administrative Review; 2016-2017

AGENCY: Enforcement and Compliance, International Trade Administration, Commerce.

SUMMARY: The Department of Commerce (the Department) is rescinding the administrative review of the antidumping duty order on certain preserved mushrooms (mushrooms) from India for the period of February 1, 2016 through January 31, 2017.

DATES: Effective June 6, 2017.

FOR FURTHER INFORMATION CONTACT: Katherine Johnson or Denisa Ursu, Enforcement and Compliance, International Trade Administration, U.S. Department of Commerce, 1401 Constitution Avenue NW., Washington, DC 20230; Telephone: (202) 482-4929 or (202) 482-2285, respectively.

SUPPLEMENTARY INFORMATION:

Background

On February 8, 2017, the Department published in the Federal Register a notice of “Opportunity to Request Administrative Review” of the antidumping duty order on certain preserved mushrooms from India for the period of February 1, 2016 through January 31, 2017.¹

¹ See Antidumping or Countervailing Duty Order, Finding, or Suspended Investigation; Opportunity to Request Administrative Review, 82 FR 9709 (February 8, 2017).

On February 28 2017, in accordance with section 751(a) of the Tariff Act of 1930, as amended (the Act), and 19 CFR 351.213(b), the Department received a timely request from Himalya International Limited and Himalya International Inc. (collectively, Himalya) to conduct an administrative review of the antidumping duty order on mushrooms from India manufactured and exported by Himalya International Limited.²

² See Himalya's letter, “Preserved Mushrooms from India—Request for Administrative Review of Himalya International Inc & Himalya International Limited,” dated February 28, 2017.

On April 10, 2017, the Department published in the Federal Register a notice of initiation of an administrative review of the antidumping duty order.³ This administrative review covers Himalya during the period February 1, 2016 through January 31, 2017. On May 16, 2017, Himalya timely withdrew its request for an administrative review.⁴

³ See Initiation of Antidumping and Countervailing Duty Administrative Reviews, 82 FR 17188 (April 10, 2017).

⁴ See Himalya's letter, “Certain Preserved Mushrooms from India: Withdraw of Admin Review Request Made on February 28th, 2017” dated May 16, 2017.

Rescission of Review

Pursuant to 19 CFR 351.213(d)(1), the Department will rescind an administrative review, if the party that requested the review withdraws its request within 90 days of the date of publication of notice of initiation of the requested review. Himalya withdrew its review request before the 90-day deadline, and no other party requested an administrative review of the antidumping duty order. Therefore, in response to the timely withdrawal of the review request, the Department is rescinding in its entirety the administrative review of the antidumping duty order on mushrooms from India for the review period February 1, 2016 through January 31, 2017.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers whose entries will be liquidated as a result of this rescission notice, of their responsibility under 19 CFR 351.402(f)(2) to file a certificate regarding the reimbursement of antidumping duties and/or countervailing duties prior to liquidation of the relevant entries during this review period. Failure to comply with this requirement may result in the presumption that reimbursement of antidumping duties and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: May 31, 2017.
Gary Taverman,
Deputy Assistant Secretary for Antidumping and Countervailing Duty Operations.

[FR Doc. 2017-11671 Filed 6-5-17; 8:45 am]

BILLING CODE 3510-DS-P